DEPARTMENT OF ENERGY

Federal Energy Regulatory Commission

Combined Notice of Filings #1

Take notice that the Commission received the following electric corporate filings:

Docket Numbers: EC24-32-000.

Applicants: OhmConnect, Inc., Resi Station, LLC, Renew Home VPP, LLC.

Description: Joint Application for Authorization Under Section 203 of the Federal Power Act of OhmConnect, Inc., et al.

Filed Date: 12/27/23.

Accession Number: 20231227-5334.

Comment Date: 5 p.m. ET 1/17/24.

Docket Numbers: EC24-33-000.

Applicants: MN8 Energy LLC.

Description: Application for Authorization Under Section 203 of the Federal Power Act of MN8 Energy LLC.

Filed Date: 12/27/23.

Accession Number: 20231227-5336.

Comment Date: 5 p.m. ET 1/17/24.

Take notice that the Commission received the following electric rate filings:

Docket Numbers: ER10-1338-005.

Applicants: Southern Indiana Gas and Electric Company, Inc.

Description: Triennial Market Power Analysis for Central Region of Southern Indiana Gas and Electric Company, Inc.

Filed Date: 12/28/23.

Accession Number: 20231228-5444.

Comment Date: 5 p.m. ET 2/26/24.

Docket Numbers: ER10-1585-023; ER10-1594-023; ER10-1617-023; ER10-1619-007; ER10-1625-010; ER10-1628-023; ER10-1632-025; ER12-60-025; ER16-733-014; ER16-1148-014; ER19-2908-002.

Applicants: Tenaska Clear Creek Wind, LLC, Tenaska Energía de Mexico, S. de R. L. de C.V., LQA, LLC, Tenaska Power Management, LLC, Tenaska Power Services Co., Texas Electric Marketing, LLC, Tenaska Georgia Partners, L.P., Tenaska Alabama Partners, L.P., New Mexico Electric Marketing, LLC, California Electric Marketing, LLC, Alabama Electric Marketing, LLC.

Description: Triennial Market Power Analysis for Southeast Region of Alabama Electric Marketing, LLC, et al.

Filed Date: 12/28/23.

Accession Number: 20231228-5393.

Comment Date: 5 p.m. ET 2/26/24.

Docket Numbers: ER10-1841-030; ER10-1852-084; ER10-1907-029; ER10-1918-030; ER10-1950-030; ER10-1970-029; ER10-1972-029; ER10-2005-030; ER10-2078-028; ER11-4462-083; ER12-1660-029; ER13-2458-024; ER13-2461-024; ER16-1872-020; ER16-2506-022; ER17-838-057; ER17-2270-021; ER18-1771-020; ER18-2224-020; ER18-2246-019; ER19-987-017; ER19-1003-017; ER19-1393-017; ER19-1394-017; ER19-2373-013; ER19-2382-013; ER19-2398-015; ER19-2437-013; ER19-2461-013; ER20-122-011; ER20-1220-011; ER20-1769-011; ER20-1879-012; ER20-1987-012; ER20-2690-011; ER21-1320-007; ER21-1953-009; ER21-2048-009; ER21-2100-008; ER22-2536-004; ER22-2601-004; ER22-2634-004; ER23-568-003; ER23-2321-001; ER23-2324-001; ER23-2694-001.

Applicants: Cereal City Solar, LLC, Cavalry Energy Center, LLC, Dunns Bridge Energy Storage, LLC, Big Cypress Solar, LLC, Buffalo Ridge Wind, LLC, Walleye Wind, LLC, Kossuth County Wind, LLC, Point Beach Solar, LLC, Sac County Wind, LLC, Heartland Divide Wind II, LLC, Crystal Lake Wind Energy III, LLC, Jordan Creek Wind Farm LLC, Cerro Gordo Wind, LLC, Oliver Wind I, LLC, Chicot Solar, LLC, Oliver Wind II, LLC, Crowned Ridge Interconnection, LLC, Crowned Ridge Wind, LLC, Emmons-Logan Wind, LLC, Hancock County Wind, LLC, Story County Wind, LLC, Ashtabula Wind I, LLC, Endeavor Wind II, LLC, Endeavor Wind I, LLC, Crystal Lake Wind Energy II, LLC, Crystal Lake Wind Energy I, LLC, Heartland Divide Wind Project, LLC, Pegasus Wind, LLC, Langdon Renewables, LLC, Stuttgart Solar, LLC, NextEra Energy Marketing, LLC, Oliver Wind III, LLC, Marshall Solar, LLC, Pheasant Run Wind, LLC, Tuscola Wind II, LLC, Tuscola Bay Wind, LLC,NEPM II, LLC, White Oak Energy LLC, Ashtabula Wind II, LLC, NextEra Energy Point Beach, LLC, NextEra Energy Duane Arnold, LLC, Garden Wind, LLC,FPL Energy North Dakota Wind II, LLC,FPL Energy North Dakota Wind, LLC, Florida Power & Light Company, Butler Ridge Wind Energy Center, LLC.

Description: Triennial Market Power Analysis for Central Region of Butler Ridge Wind Energy Center, LLC, et al.

Filed Date: 12/21/23.

Accession Number: 20231221-5415.

Comment Date: 5 p.m. ET 2/20/24.

Docket Numbers: ER10-2791-019; ER10-2792-019; ER19-289-010; ER10-1827-010; ER10-1575-017; ER10-2876-019; ER19-2462-008; ER18-2264-010.

Applicants: Macquarie Energy Trading LLC, Macquarie Energy LLC, Louisiana Generating LLC, Cottonwood Energy Company, LP, Cleco Power LLC, Cleco Cajun LLC, Big Cajun I Peaking Power LLC, Bayou Cove Peaking Power LLC.

Description: Updated Market Power Analysis for the Central Region of Bayou Cove Peaking Power, LLC, et al.

Filed Date: 12/26/23.

Accession Number: 20231226-5185.

Comment Date: 5 p.m. ET 2/26/24.

Docket Numbers: ER10-3254-005.

Applicants: Cooperative Energy Incorporated (An Electric Membership Corporation).

Description: Triennial Market Power Analysis for Southeast Region of Cooperative Energy Incorporated (An Electric Membership Corporation).

Filed Date: 12/27/23.

Accession Number: 20231227-5332.

Comment Date: 5 p.m. ET 2/26/24.

Docket Numbers: ER18-1977-003; ER18-2194-003; ER18-2217-002; ER19-117-003; ER19-118-003.

Applicants: Innovative Solar 67, LLC, Innovative Solar 54, LLC, Buckleberry Solar, LLC, Fox Creek Farm Solar, LLC, Brantley Farm Solar, LLC.

Description: Triennial Market Power Analysis for Southeast Region of Brantley Farm Solar, LLC, et al.

Filed Date: 12/28/23.

Accession Number: 20231228-5412.

Comment Date: 5 p.m. ET 2/26/24.

Docket Numbers: ER20-649-005; ER14-868-006; ER14-867-005; ER14-594-019.

Applicants: Ohio Power Company, AEP Energy, Inc., AEP Retail Energy Partners, AEP Energy Partners, Inc.

Description: Triennial Market Power Analysis for Central Region of AEP Energy Partners, Inc., et al.

Filed Date: 12/28/23.

Accession Number: 20231228-5442.

Comment Date: 5 p.m. ET 2/26/24.

Docket Numbers: ER21-1735-002.

Applicants: Indianapolis Power & Light Company.

Description: Updated Market Power Analysis for the Central Region of Indianapolis Power & Light Company.

Filed Date: 12/27/23.

Accession Number: 20231227-5338.

Comment Date: 5 p.m. ET 2/26/24.

Docket Numbers: ER24-343-001.

Applicants: Nestlewood Solar I LLC.

Description: Tariff Amendment: Supplement to Petition for Maket-Based Rate Application to be effective 11/4/2023.

Filed Date: 12/29/23.

Accession Number: 20231229-5170.

Comment Date: 5 p.m. ET 1/19/24.

Docket Numbers: ER24-616-001.

Applicants: PJM Interconnection, L.L.C.

Description: Tariff Amendment: Amendment to Service Agreement Filing NSA, SA No. 7139; Queue No. AD2-086/AE1-090 to be effective 2/10/2024.

Filed Date: 12/29/23.

Accession Number: 20231229-5108.

Comment Date: 5 p.m. ET 1/19/24.

Docket Numbers: ER24-774-000.

Applicants: Central Maine Power Company, ISO New England Inc.

Description: § 205(d) Rate Filing: Central Maine Power Company submits tariff filing per 35.13(a)(2)(iii: CMP; Post-Retirement Benefits Other than Pensions Expenses Refund Report to be effective 2/28/2024.

Filed Date: 12/29/23.

Accession Number: 20231229-5044.

Comment Date: 5 p.m. ET 1/19/24.

Docket Numbers: ER24-775-000.

Applicants: The United Illuminating Company, ISO New England Inc.

Description: § 205(d) Rate Filing: The United Illuminating Company submits tariff filing per 35.13(a)(2)(iii: UI; Post-Retirement Benefits Other than Pensions Expenses Refund Rpt to be effective 2/28/2024.

Filed Date: 12/29/23.

Accession Number: 20231229-5052.

Comment Date: 5 p.m. ET 1/19/24.

Docket Numbers: ER24-776-000.

Applicants: PacifiCorp.

Description: § 205(d) Rate Filing: Calpine NITSA Rev 18 to be effective 1/1/2024.

Filed Date: 12/29/23.

Accession Number: 20231229-5075.

Comment Date: 5 p.m. ET 1/19/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 29, 2023.
Debbie-Anne A. Reese,
Deputy Secretary.

[FR Doc. 2024-00033 Filed 1-4-24; 8:45 am]

BILLING CODE 6717-01-P